DEPARTMENT OF HOUSING AND URBAN DEVELOPMENT

[Docket No. FR-5700-FA-16]

Announcement of Funding Awards; Indian Community Development Block Grant Program Fiscal Year 2013

AGENCY: Office of Public and Indian Housing, HUD.

ACTION: Announcement of funding awards.

SUMMARY: In accordance with Section 102(a)(4)(C) of the Department of Housing and Urban Development Reform Act of 1989, this announcement notifies the public of funding decisions made by the Department in a competition for funding under the Fiscal Year 2013 (FY 2013) Notice of Funding Availability (NOFA) for the Indian Community Development Block Grant (ICDBG) Program. This announcement contains the consolidated names and addresses of this year's award recipients under the ICDBG.

FOR FURTHER INFORMATION CONTACT: For questions concerning the ICDBG Program awards, contact the Area Office of Native American Programs (ONAP) serving your area or Roberta L. Youmans, Lead Grants Management Specialist, Office of Native Programs, 451 7th Street SW., Washington, DC 20410, telephone (202) 402-3316. Hearing or speech-impaired individuals may access this number via TTY by calling the toll-free Federal Information Relay Service at (800) 877-8339.

SUPPLEMENTARY INFORMATION: This program provides grants to Indian tribes and Alaska Native Villages to develop viable Indian and Alaska Native communities, including the creation of decent housing, suitable living environments, and economic opportunities primarily for persons with low and moderate incomes as defined in 24 CFR 1003.4.

The FY 2013 awards announced in this Notice were selected for funding in a competition posted on HUD's Web site on January 15, 2013, and in a technical amendment posted on August 6, 2013. Applications were scored and selected for funding based on the selection criteria in those notices and Area ONAP geographic jurisdictional competitions.

The amount appropriated in FY 2013 to fund the ICDBG was $56,861,640. Of this amount $3,500,000 was retained to fund imminent threat grants in FY 2013. In addition, a total of $253,370 in carryover funds from prior years was also available. The allocations for the Area ONAP geographic jurisdictions, including carryover from prior years, were as follows:

Eastern/Woodlands | $6,129,147
Southern Plains | 11,463,693
Northern Plains | 7,662,430
Southwest | 19,804,882
Northwest | 2,821,668
Alaska | 5,733,190
Total | 53,615,010

In accordance with Section 102(a)(4)(C) of the Department of Housing and Urban Development Reform Act of 1989 (103 Stat.1987, 42 U.S.C. 3545), the Department is publishing the names, addresses, and amounts of the 76 awards made under the various regional competitions in Appendix A to this document.

Dated: November 1, 2013.
Sandra B. Henriquez,
Assistant Secretary for Public and Indian Housing.

Appendix A
Name/address of applicant | Amount funded | Activity funded | Project description
Absentee Shawnee Tribe, Edwina-Butler Wolfe, Governer, 2025 South Gordon Cooper, Shawnee, OK 74801, 405-275-4030 | $800,000 | ED | Tribal youth camp and job training.
All Mission Housing Authority (La Jolla), Dave Shaffer, Executive Director, 27740 Jefferson Ave, Ste 260, Temecula, CA 92590, 951-760-7390 | 567,530 | HC | Three new housing units.
All Mission Housing Authority (Pauma), Dave Shaffer, Executive Director, 27740 Jefferson Ave, Ste 260, Temecula, CA 92590, 951-760-7390 | 566,933 | HC | Three new housing units.
All Mission Housing Authority (Torres Martinez), Dave Shaffer, Executive Director, 27740 Jefferson Ave, Ste 260, Temecula, CA 92590, 951-760-7390 | 569,304 | HC | Three new housing units.
All Mission Housing Authority (Viejas), 27740 Jefferson Ave, Ste 260, Temecula, CA 92590, 951-760-7390 | 568,006 | HC | Three new housing units.
Aroostook Band of Micmacs, Richard Getchell, #7 Northern Road, Presque Isle, ME 04769, 800-355-1435 | 600,000 | PFC | Expansion of health clinic and Head Start building.
Arctic Village, Jonathan John, First Chief, P.O. Box 22069, Arctic Village, AK 99722, 907-587-5523 | 600,000 | HC | Construction of two energy efficient single-family homes.
Bear River Band of Rohnerville Rancheria, Willam Sand, Chairperson, 266 Kiesner Road, Loleta, CA 95551, 707-733-1900 | 605,000 | HC | Four new homeownership units and related infrastructure.
Bois Forte Reservation Tribal Council, Kevin Leecy, P.O. Box 16, Nett Kake, MN 55772, 218-757-3312 | 600,000 | HR | Rehabilitation of 31 housing units.
Cahuilla Band of Mission Indians, Luther Salgado, Chairperson, P.O. Box 391760, Anza, CA 925399, 951-763-5549 | 605,000 | HC | Four new manufactured homes.
Chemehuevi Indian Tribe, Edward Smith, Chairperson, P.O. Box 1976, Havasu Lake 92363, 760-858-4219 | 605,000 | PF | Construction of a ferry boat marina and maintenance facility.
Cherokee Nation, Bill John Baker, Principal Chief, P.O. Box 948, Talequah, OK, 918-456-0671 | 800,000 | MI | Microenterprise program.
Chevak Native Village, James Ayuluk, President, PO Box 140, Chevak, AK 99563, 907-587-5523 | 600,000 | PFC | Construction of a new health clinic.
Chickasaw Nation, Bill Anoatubby, Governor, P.O. Box 1528, Ada, OK 74821, 907-580-2603 | 800,000 | PF | Children's Development Center.
Chippewa-Cree Tribe, Richard Morsette, RRI, Box 544, Box Elder, MT 59521, 406-395-4478 | 900,000 | HC | Construction of six energy efficient rental units and creation of eight new jobs.
Citizen Potawatami Nation, John A. Barrett, Chairman, 1601 South Gordon Copper Drive, Shawnee, OK 74801, 405-275-3121 | 800,000 | PFC | Workforce Development Center.
Cocopah Indian Housing and Development, Michael Reed, Executive Director, 10488 Steamboat Street, Somerton, AZ 83350, 928-627-8863 | 605,000 | HR and HC | Rehabilitation of two housing units and construction of three units.
Coleville Indian Housing Authority, Brook Kristovich, P.O. Box 528, Nespelem, WA 99155, 509-634-2162 | 500,000 | PFC | Community Center.
Comanche Nation Housing Authority, Mr. Lamoni Yazzie, Executive Director, P.O. Box 908, Lawton, OK 73502, 580-357-4956 | 800,000 | HR | Rehabilitation of __ housing units for the elderly and handicapped.
Crow Creek Housing Authority, Ronnette Walton, P.O. Box 19, Fort Thompson, SD 57339, 605-245-2250 | 242,430 | HR | Rehabilitation of 35 housing units.
Enterprise Rancheria of Maidu Indians, Glenda Nelson, Chairperson, 2133 Monte Vista, Oroville, CA 95966, 530-532-9214 | 584,590 | HC | Construction of three new homes.
Fond du Lac Band of Lake Superior Chippewa, Karen Diver, 1720 Big Lake Road, Cloquet, MN 55720, 218-879-4593 | 600,000 | PFI | Infrastructure waterline construction project.
Hannahville Indian Community, Kenneth Meshigaud, N14911 Hannahville BI Road, Wilson, MI 49896, 906-466-2342 | 600,000 | ED | Relocation of pharmacy.
Houlton Band of Maliseets, Brenda Commander, P.O. Box 88, Houlton, ME 04730, 207-532-2660 | 182,872 | PFI | Lighting for athletic field and walking track.
Ho-Chunk Nation of Wisconsin, John Greendeer, W9814 Airport Road, Black River Falls, WI 54615, 715-284-9343 | 600,000 | HC | Infrastructure to development site.
Hualapai Indian Tribe, Sherry Count, Chairperson, P.O. Box 179, Peach Springs, AZ 86434, 928-769-2216 | 825,000 | PFC | Construction of a youth camp pavilion and laundry facility.
Iowa Tribe of Oklahoma, Gary Pratt, Chairman, 335588 E. 750 Rd, Perkins, OK 74059, 405-547-2402 | 800,000 | PF | Fire department and emergency training center and improved water pipeline.
Kaw Nation, Guy Munroe, Chairman, Drawer 50, Kaw City, OK 74641, 580-269-2552 | 800,000 | ED | Kaw Lake Deli and Dollar Store.
Knik Tribe, Debra Call, President, P.O. Box 871565, Wasilla, AK 99687, 907-373-7991 | 600,000 | HR | Acquisition and renovation of two buildings for six new housing units.
Keweenah Bay Indian Community, Warren Swartz, 16429 Beartown Road, Baraga, MI 49908, 906-353-6623 | 600,000 | PFC | Construction of a multipurpose community center.
Keweenah Bay Indian Community, Warren Swartz, 16429 Beartown Road, Baraga, MI 49908, 906-353-6623 | 600,000 | PFI | Wastewater transfer station, (for an application submitted in FY 2012).
Kickapoo Tribe of Kansas, The Honorable Steve Cadue, Chairman, 1107 Goldfinch Road, Horton, KS 66439, 785-486-2131 | 541,600 | PFC | Community service center.
Lac du Flambeau Band of Chippewa, Tom Malson, PO Box 67, Lac du Flambeau, WI 54538, 715-588-7930 | 600,000 | HC | Relocation and new homes for 20 families.
Leech Lake Band of Ojibwe, Carri Jones, 6530 US Highway 2 NW, Cass Lake, MN 56633, 218-335-8200 | 600,000 | PFC | Construction of a multipurpose community center.
Lower Brule Sioux Tribe, Stuart Langdeau, 187 Oyate Circle, Lower Brule, SD 57548, 605-473-5522 | 900,000 | HR | Rehabilitation of 18 rental housing units, training and creation of 3 jobs.
Lummi Nation, Diane Phair, 2828 Kwina Road, Bellingham, WA 98226, 360-312-8407 | 500,000 | PFI | Infrastructure for construction of 12 single-story triplexes.
Menominee Indian Tribe of Wisconsin, Randall Chevalier, P.O. Box 910, Keshena, WI 54135, 715-799-3373 | 546,275 | PFC | Renovation of tribal Head Start center.
Mentasta Traditional Council, C. Nora David, P.O. Box 6019, Mentasta, AK 99780, 907-291-2319 | 600,000 | PFC | Construction of a primary health care facility.
Muscogee (Creek) Nation, George Tiger, Principal Chief, P.O. Box 580, Okmulgee, OK 74447, 918-756-8700 | 800,000 | PF | Food distributiong Grocery store.
Native Village of Chignik, Roderick Carlson, President, P.O. Box 50, Chignik, AK 99564, 907-749-2445 | 600,000 | HC | Construction of five single family homes.
Native Village of False Pass, Ruth Hoblet, President, P.O. Box 29, False Pass, AK 99583, 907-548-2227 | 242,156 | HR | Rehabilitation and accessibility improvements on eight units.
Native Village of Shungnak, Glenn Douglas, President, P.O. Box 64, Shugnak, AK 99773, 907-437-2163 | 600,000 | HR | Weatherization and rehabilitation of 25 homes and construction of up to 7 two-bedroom additions.
Nikolai Village, Nick Alexia, Sr. First Chief, P.O. Box 9105, Nikolai, AK 99691, 907-293-2311 | 600,000 | PFC | Construction of new health clinic.
Northern Arapaho Housing Authority, Patrick Goggles, 501 Ethete Road, Ethete, WY 82520, 307-332-5318 | 1,100,000 | PFS | Renovation of Fort Washakie clinic.
Northern Cheyenne Tribal Housing Authority, Lafe Haugen, P.O. Box 327, Lame Deer, MT 59043, 406-477-6419 | 900,000 | HR | Rehabilitation of 27 homeownership units and job opportunities.
Northern Ponca Housing Authority, Joel Nathan, 1501 Michigan Ave, Norfolk, NE 68701, 402-379-8224 | 700,000 | HR | Rehabilitation of 69 rental.
Northern Pueblos Housing Authority (Picuris), Scott Beckman, Interim Executive Director, 5 West Gutierrez, Suite 10, Santa Fe, NM 87506, 888-347-6360 | 605,000 | PFC | Demolition of dilapidated structure, design and construction of a new fire station.
Northern Pueblos Housing Authority (San Ildefonso), Scott Beckman, Interim Executive Director, 5 West Gutierrez, Suite 10, Santa Fe, NM 87506, 888-347-6360 | 605,000 | PFI | Rehabilitation of 16 low rent units.
Northern Pueblos Housing Authority (Tesuque), Scott Beckman, Interim Executive Director, 5 West Gutierrez, Suite 10, Santa Fe, NM 87506, 888-347-6360 | 605,000 | HR | Installation of water, sewer, and electrical lines, roads and building pad improvements for 23 single-family homes.
North Fork Rancheria of Mono Indians, Judy Fink, Chairperson, P.O. Box 929, North Fork, CA 93643, 559-877-2461 | 344,191 | HR | Installation of solar photovoltaic systems in 16 low rent units.
Oglala Sioux (Lakota) Housing Authority, Doyle Pipe on Head, P.O. Box 603, 4 SuAnne Center Dr., Pine Ridge, SD 57770, 605-867-5161 | 1,100,000 | HR | Mold remediation and minor rehabilitation of 190 rental units.
Ohkay Owingeh Housing Authority, Tomasita Duran, P.O. Box 1059, Ohkay Owingeh, NM 87566, 505-852-0189 | 825,000 | HR | Rehabilitation of 18 historic homeownership units.
Organized Village of Kake, Gary Williams, Executive Director, P.O. Box 316, Kake, AK 99830, 907-785-6471 | 600,000 | PFC | Renovation and expansion of Kake Senior Community Center.
Ottawa Tribe of Oklahoma, Ethel E. Cook, Chief, P.O. Box 110, Miami, OK 74355, 918-540-1536 | 800,000 | ED | Adawe Travel Plaza.
Pascua Yaqui Tribe, Peter Yucupicio, Chairperson, 7474 South Camino de Oeste, Tucson, AZ 85757, 520-883-5000 | 2,200,000 | PFI | Construction of final phase of wellness center and gym.
Port Gamble S'Klallam Housing Authority, Chris Placentia, 32000 Little Boston Road, S.E., Kingston, WA 98346, 360-297-6351 | 500,000 | HR | Rehabilitation of 15 homeownership units.
Pueblo de Cochiti Housing Authority, Rick Tewa, Executive Director, P.O. Box 98, Cochiti Pueblo, NM 87072, (505-465-0264 | 498,235 | HR | Rehabilitation of 14 homeownership units.
Pueblo of Jemez, Isaac Perez, Executive Director, P.O. Box 100, Jemez Pueblo, NM 87024, 505-771-9291 | 825,000 | HR | Rehabilitation of 21 homeownership units.
Qagan Tayagungin Tribe of Sand, Point Village, David Osterback, President, P.O. Box 447, Sand Point, AK 99683, (907) 383-5616 | 78,012 | HC | Construction of a wind turbine on a prototype home.
Quapaw Tribe of Oklahoma, John Berrey, Chairman, P.O. Box 765, Quapaw, OK 74363, (918-542-1853 | 800,000 | PF | Wellness Center.
Quartz Valley Reservation, Harold Bennett, Chairperson, 16301 Quartz Valley Road, Fort Jones, CA 96032, 530-468-5907 | 605,000 | PFC | Expansion of Anav Tribal Health Clinic.
Sac and Fox Nation of Missouri in Kansas and Nebraska, Rita Bahr, Acting Tribal Chairman, 305 North Main Street, Reserve, KS 66434, 785-742-0053 | 522,103 | HR | Rehabilitation of 34 substandard housing units.
San Carlos Apache Housing Authority, Ronald Boni, Executive Director, PO Box 740, Peridot, AZ 85542, 928-475-2346 | 1,618,019 | HR | Rehabilitation of 48 single- family homes.
San Felipe Pueblo Housing Authority, Issac Perez, Executive Director, P.O. Box 4222, San Felipe Pueblo, NM 87001, 505-771-9291 | 825,000 | HR | Construction of seven single- family homes.
Santo Domingo Tribal Housing Authority, Greta Armijo, Executive Director, P.O. Box 10, Santo Domingo, NM 87052, 505-465-1003 | 822,500 | HR | Rehabilitation of substandard historic Kewa homes.
Spokane Tribe of Indians, Lux Devereaux, P.O. Box 100, Wellpinit, WA 99040, 509-458-6502 | 324,608 | PFC | Community Center.
Suquamish Tribe, Scott Crowell, P.O. Box 498, Suquamish, WA 98392, 360-394-8415 | 497,060 | PFI | Infrastructure for the development of 14 buildable housing lots.
Susanville Indian Rancheria, Stacy Dixon, Chairperson, 745 Joaquin Street, Susanville, CA 96130, 530-257-6264 | 605,000 | HC | Construction of five new homes.
Tohono O'odham—KiKi Association, Pete Delgado, Executive Director, P.O. Box 790, Sells, AZ 85634, 520-383-2202 | 2,750,000 | HC | Substantial rehabilitation of 24 single-family Mutual Help units.
Tonkawa Tribe, Donald L. Patterson, President, 1 Rush Buffalo Road, Okemah, OK 76859, 580-628-2561 | 799,990 | ED | Tonkawa Travel Plaza.
Tunica-Biloxi Tribe of Louisiana, Earl Barbry, Sr., Chairman, P.O. Box 1589, Marksville, LA 71351, 318-253-9767 | 800,000 | PFI | Earl J. Barbry, Sr. Boulevard Roadway Construction.
Utah Paiute Housing Authority, Jessie Laggis, 665 North, 100 East, Cedar City, UT 84720, 435-586-1122 | 900,000 | HR | Rehabilitation of 15 rental housing units and 38 new roofs.
Ute Indian Tribally Designated Housing Entity, Tom Yellow Wolf, P.O. Box 250, Fort Duchesne, UT 84026, 435-722-4656 | 900,000 | HR | Rehabilitation of 23 homeownership units and creation of 2 permanent jobs.
Village of Venetie, Julius Roberts, First Chief, P.O. Box 81119, Venetie, AK 99781, 907-849-8212 | 600,000 | HC | Construction of two single family homes.
Warm Springs Housing Authority, Scott Moses, P.O. Box 1167, Warm Springs, OR 97761, 541-553-3250 | 500,000 | HR | Rehabilitation of 29 rental housing units.
Wyandotte Nation, Billy Friend, Chief, 64700 E. Highway 60, Wyandotte, OK 74370, 918-678-2297 | 800,000 | PF | Cultural Center.

[FR Doc. 2013-27012 Filed 11-8-13; 8:45 am]

BILLING CODE 4210-67-P